DEPARTMENT OF THE INTERIOR

Bureau of Land Management

Bureau of Land Management Districts and National Forests Within the Range of the Northern Spotted Owl; Western Oregon and Washington, and Northwestern California; Removal of Survey and Manage Mitigation Measure Standards and Guidelines

AGENCY: Bureau of Land Management, USDI; Forest Service, USDA.

ACTION: Notice of intent to prepare a supplement to a final environmental impact statement.

SUMMARY: The Bureau of Land Management (BLM) and USDA Forest Service (collectively the Agencies) will prepare a supplemental environmental impact statement (SEIS) to address the order of Judge Marshal J. Pechman, United States District Court, Western District of Washington. (Northwest Ecosystem Alliance v. Rey, August 1, 2005) Specifically, the court found that the 2004 Final Supplemental Environmental Impact Statement to Remove or Modify the Survey and Manage Mitigation Measure Standards and Guideline (2004 SEIS) was deficient because the Agencies failed to: (1) “* * analyze potential impacts to Survey and Manage species if they are not added to or are removed from the Forest Service's and BLM's respective programs for special status species;” (2) “* * * provide a thorough analysis of their assumption that the late-successional reserves would adequately protect species that the Survey and Manage standard was introduced to protect, particularly in light of their previous positions in earlier environmental impact statements;” and (3) “* * * disclose and analyze flaws in their methodology for calculating the acreage in need of hazardous fuel treatments. Part of the cost analysis was similarly flawed because it relied on the acreage in need of hazardous fuel treatments in calculating the cost of the Survey and Manage standard.” The SEIS will provide additional information and analysis necessary to fully address the deficiencies noted by the court in the 2004 SEIS.

DATES: Comments concerning the analysis should be received in writing by January 11, 2006.

ADDRESSES: Send written comments concerning this proposal to: Comments, 2006 SEIS for Survey and Manage, PO Box 2965, Portland, Oregon 97208.

FOR FURTHER INFORMATION CONTACT: Michael J. Haske, Chief, Branch of Forest Resources and Special Status Species, BLM, PO Box 2965, Portland, Oregon 97208 or Alan Christensen, Group Leader, Wildlife, Fisheries, Watershed, Soils and Range, USDA Forest Service, 333 SW., First Avenue, Portland, Oregon 97204.

SUPPLEMENTARY INFORMATION: The 2004 SEIS addressed National Forest System lands and public lands administered by the BLM within the range of the northern spotted owl, generally in western Oregon and Washington, and in northwestern California.

Scoping is not required for supplements to environmental impact statements (40 CFR 1502.9(c)(4)). However, at their discretion the Agencies are inviting comments at this time. Comments are sought to help the Agencies identify specific information needs and analytical methodologies necessary to fully address the court identified deficiencies. For comments to be most useful, they should be as specific as possible and submitted in writing by the date identified above.

A notice will be prepared and circulated to affected Federal, State, and local agencies, affected tribes, and individuals and organizations previously expressing an interest in the 2004 SEIS. This notice, along with background information, will also be posted on the Internet: http://www.reo.gov.s-m2006/index.htm. The USDA Forest Service and BLM will be joint lead agencies for this analysis. The responsible officials for National Forest System lands will be the Secretary of Agriculture, Jamie L. Whitten Federal Building, 12th & Jefferson Drive, SW., Washington, DC 20250. The responsible official for public lands administered by the BLM will be the Secretary of the Interior, 1849 C Street, NW., Mailstop 7229-MIB, Washington, DC 20240.

Larry Benna,
Deputy Director, Operations, Bureau of Land Management, Department of the Interior.

[FR Doc. 05-23893 Filed 12-9-05; 8:45 am]

BILLING CODE 4310-84-M